Title 3—

The President

Proclamation 9210 of November 14, 2014

American Education Week, 2014

By the President of the United States of America

A Proclamation

In the United States, every young person deserves access to a world-class education. In classrooms, lecture halls, and laboratories across America, high-quality education helps unlock the limitless potential of our Nation's students and creates pathways for their success. It prepares them for the jobs of tomorrow and the responsibilities of citizenship. A strong school system bolsters our economy and strengthens our democracy, and it is at the core of the American belief that with hard work, anyone can get ahead. During American Education Week, we celebrate the devoted educators who instruct and inspire students of all ages, and we continue our work to provide every person with the best education possible.

My Administration is committed to widening the circle of opportunity for more Americans and restoring middle-class security, and that starts by supporting education for all. We know early education is one of the best investments we can make in a child's life, and that is why we are striving to expand access to preschool to every girl and boy in America. To spur reform in our public schools and ensure students graduate from high school prepared for achievement, we have directed billions of dollars to States and school districts through the Race to the Top initiative. My Administration is also dedicated to reestablishing America's place as the world leader in college completion. We have expanded grants, tax credits, and loans to help more families afford a college degree and invested in programs that help students manage and reduce the burdens of debt after they graduate.

With grit and passion, America's teachers give life to education's promise. Our education-support professionals help ensure the health, well-being, and success of our children. And in small towns and large cities, principals and district administrators cultivate communities that value learning and share a common vision of academic excellence. Together, these leaders encourage our students to reach higher and inspire them to achieve their dreams. Great educators and administrators deserve all the tools and resources they need to do their job, including chances for professional development and pay that reflects the contributions they make to our country. They are the most critical ingredients in any school, and my Administration is working hard to support them as they empower our Nation's youth.

In a complex world, we must meet new and profound challenges. As a Nation, we must prepare the next generation to face these issues and the problems of their own time. An education equips the leaders of tomorrow with the knowledge and vision they need to discover the solutions of the future and build a better society for their children and grandchildren. This week, we honor the teachers, mentors, and professionals who guide our kids as they explore the world. Let us recommit to supporting a first-class education for all students, from the day they start preschool to the day they start their career.

NOW, THEREFORE, I, BARACK OBAMA, President of the United States of America, by virtue of the authority vested in me by the Constitution and the laws of the United States, do hereby proclaim November 16 through November 22, 2014, as American Education Week. I call upon all Americans to observe this week by supporting their local schools through appropriate activities, events, and programs designed to help create opportunities for every school and student in America.

IN WITNESS WHEREOF, I have hereunto set my hand this fourteenth day of November, in the year of our Lord two thousand fourteen, and of the Independence of the United States of America the two hundred and thirty-ninth.

[FR Doc. 2014-27480

Filed 11-18-14; 8:45 am]

Billing code 3295-F5